FEDERAL COMMUNICATIONS COMMISSION

Privacy Act System of Records

AGENCY: Federal Communications Commission.

ACTION: Notice; one new Privacy Act system of records.

SUMMARY: The Federal Communications Commission (FCC or Commission or Agency) proposes to add a new system of records, FCC/CGB-4, “Internet-based Telecommunications Relay Service-User Registration Database (ITRS-URD) Program.” The FCC's Consumer and Governmental Affairs Bureau (CGB) will use the information contained in the ITRS-URD Program's system of records to cover the personally identifiable information (PII) that is collected, used, stored, and maintained as part of the management, operations, and functions of the ITRS-URD's Program's database(s). The ITRS-URD Program, which is administered under contract with the FCC, is a database registration system that provides a necessary interface for multiple services, which include, but are not limited to Internet-based Telecommunications Relay Services (ITRS) such as VRS,¹ IP Relay,² and IPCTS,³ for individuals who are deaf, deaf-blind, hard of hearing, and/or have speech disabilities, and who are eligible under the Americans with Disabilities Act (ADA) and who have registered to subscribe to/participate in the ITRS-URD Program's services. These various forms of Telecommunications Relay Services (TRS) allow persons who are deaf, deaf-blind, hard of hearing, and/or have a speech disability to engage in communication by wire or radio with one or more individuals, in a manner that is functionally equivalent to the ability of a hearing individual who does not have a speech disability to communicate using voice communication services by wire or radio.

¹ Video Relay Service (VRS).

² Internet Protocol Relay Service (IP Relay).

³ Internet Protocol Captioned Telephone Service (IPCTS).

DATES: Submit written comments concerning this new system of records on or before March 11, 2015. The Administrator, Office of Information and Regulatory Affairs (OIRA), Office of Management and Budget (OMB), which has oversight responsibility under the Privacy Act to review the system of records, and Congress may submit comments on or before March 23, 2015. The proposed new system of records will become effective on March 23, 2015 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Information Technology (IT), Room 1-C216, Federal Communications Commission (FCC), 445 12th Street SW., Washington, DC 20554, or via the Internet at Leslie.Smith@fcc.gov.

FOR FURTHER INFORMATION CONTACT: Leslie F. Smith, Information Technology (IT), Room 1-C216, Federal Communications Commission (FCC), 445 12th Street SW., Washington, DC 20554, (202) 418-0217, or via the Internet at Leslie.Smith@fcc.gov.

SUPPLEMENTARY INFORMATION: As required by the Privacy Act of 1974, as amended, 5 U.S.C. 552a(e)(4) and (e)(11), this document sets forth notice of the proposed new system of records maintained by the FCC. This notice is a summary of the more detailed information about the proposed new system of records, which may be obtained or viewed pursuant to the contact and location information given above in the ADDRESSES section. The purpose for establishing this new system of records, FCC/CGB-4, “ITRS-URD,” is to cover the PII of individuals in the ITRS-URD Program's database(s) who are eligible to register to subscribe to/participate in the ITRS-URD Program's services. The ITRS-URD Program, which is administered under contract with the FCC, is a database registration system that provides a necessary interface for multiple services, including, but not limited to ITRS, individuals who are deaf, deaf-blind, hard of hearing, and/or have speech disabilities and who are eligible under the ADA. These various Telecommunications Relay Services allow people with hearing or speech disabilities (or who are deaf-blind) to place and receive calls.

This notice meets the requirement documenting the proposed new system of records that is to be added to the systems of records that the FCC maintains, and provides the public, OMB, and Congress with an opportunity to comment.

FCC/CGB-4

SYSTEM NAME:

Internet-based Telecommunications Relay Service-User Registration Database (ITRS-URD) Program.

SECURITY CLASSIFICATION:

The FCC's CIO team will provide a security classification to this system based on NIST FIPS-199 standards.

SYSTEM LOCATION(S):

TRS Program Administrator; and TRS Fund Program Coordinator, Office of Managing Director (OMD), Federal Communications Commission (FCC), 445 12th Street SW., Washington, DC 20554.

CATEGORIES OF INDIVIDUALS COVERED BY THE SYSTEM:

The categories of individuals for which the ITRS-URD Program's services are provided include individuals who are deaf, deaf-blind, hard of hearing, and/or have speech disabilities, and who are eligible under the ADA, to register to participate in/subscribe to one or more of the ITRS-URD Program's multiple services; are registered and currently receiving ITRS-URD Program's services; and/or are minors whose status makes them eligible for a parent or guardian to register them to participate in/subscribe to the ITRS-URD Program's services.

CATEGORIES OF RECORDS IN THE SYSTEM:

The categories of records in the ITRS-URD Program's services include, but are not limited to: the individual's full name (first, middle, and last names), parent or guardian's name of the registered subscriber who is a minor, full residential address, date of birth, last four digits of social security number (SSN) (or alternative proof of identification for those who do not have a social security number), ten digit telephone number(s) assigned in the TRS number directory and associated uniform resource identifier (URI) information, user's registered location information for emergency calling purposes, eligibility certification (digital copy) for ITRS-URD Program's service(s) and date obtained from provider, VRS provider and ITRS-URD Program's initiation date and termination date, ITRS-URD Program support received per month, date of the provision of ITRS-URD Program support (if applicable), ITRS-URD Program user password, and date on which user last placed a point-to-point or relay call, call detail records registry for all forms of ITRS-URD Program's services, including CDRs ⁴ supporting requests for reimbursement of VRS, IPCTS, and IP Relay service, monitoring and reporting information on data abnormalities, errors, and potential sources of fraud.

⁴ Call data records (CDR).

AUTHORITY FOR MAINTENANCE OF THE SYSTEM:

47 U.S.C. 141-154, 225, 255, 303(r), 616, and 620; 47 CFR parts 64, Subpart F, Telecommunications Relay Services and Related Customer Premises Equipment for Persons With Disabilities (VRS Reform Order).

PURPOSE(S):

The ITRS-URD Program, which is administered under contract with the FCC, is a database registration system that provides a necessary interface for multiple services, which include, but are not limited to VRS, IP Relay, and IPCTS, for individuals who are deaf, deaf-blind, hard of hearing, and/or have speech disabilities, and who are eligible under the ADA to register to participate in/subscribe to one or more of the ITRS-URD Program's multiple services; are registered and currently receiving ITRS-URD Program services; and/or are minors whose status makes them eligible for a parent or guardian to register them to participate in/subscribe to the ITRS-URD Program's services. The ITRS-URD Program system of records will cover the PII that is collected, used, stored, and maintained in this ITRS-URD Program's database(s), which is operated by the ITRS-URD Program's administrator on behalf of the FCC. This PII includes:

1. The information that is used to determine whether an individual who is applying for the ITRS-URD Program's services is eligible to register to participate in/subscribe to the ITRS-URD Program's services.

2. The information that the ITRS-URD Program's administrator uses to determine whether information with respect to its registered users already in the ITRS-URD Program's database(s) is correct and complete. These ITRS-URD Program's VRS providers must furnish the ITRS-URD Program's administrator with a subscriber list containing PII that includes the individual's full name (first, middle, and last names), parent or guardian's name of the registered subscriber who is a minor, full residential address, date of birth, last four digits of social security number (or alternative proof of identification for those who do not have a social security number), ten digit telephone number(s) assigned in the TRS number directory and associated URI information, user's registered location information for emergency calling purposes, eligibility certification (digital copy) for ITRS-URD Program's service(s) and date obtained from provider, VRS provider and ITRS-URD Program's initiation date and termination date, ITRS-URD Program support received per month, date of the provision of ITRS-URD Program support (if applicable), ITRS-URD Program user password, and date on which user last placed a point-to-point or relay call, call detail records registry for all forms of ITRS-URD Program's services, including CDRs supporting requests for reimbursement of VRS, IPCTS, and IP Relay service, monitoring and reporting information on data abnormalities, errors, and potential sources of fraud subscriber;

3. The information that the ITRS-URD Program's administrator will use to implement a system for automated validation of the registration information that has been submitted and ensure that the authorized VRS providers are unable to register individuals who do not pass the identification verification check conducted through the ITRS-URD Program. The ITRS-URD Program's Third Party contractor and subcontractors will establish the verification protocol to ensure that each individual has proven his/her eligibility to use the service with their desired default VRS provider;

4. The information VRS providers must request to validate each individual who seeks to register that he/she is an actual person living or visiting in the United States;

5. The information for a user signed up with multiple providers for different VRS services. Each company acting as the default provider will have access to their users' information as it pertains only to their service; and

6. The information that is contained in the records of the inquiries that the ITRS-URD Program's VRS providers will make available to the ITRS-URD Program's administrator's Third Party contractor and subcontractors who manages the database [verification/call/service center(s)] to verify that individuals who are deaf, deaf-blind, hard of hearing, and/or have speech disabilities and who are eligible under the ADA to participate in the ITRS-URD Program's services.

Records in the ITRS-URD Program's system of records are available for public inspection after redaction of information that could identify the individual ITRS-URD Program's participant/subscriber, such as the individual's name(s), date of birth, last four digits of social security number (including alternative proof of identification or other unique ID for those individuals who do not have a social security number), tribal ID number, telephone number(s), emergency location, and/or other PII that validates their participation in this program.

ROUTINE USES OF RECORDS MAINTAINED IN THE SYSTEM, INCLUDING CATEGORIES OF USERS AND THE PURPOSES OF SUCH USES:

Information about individuals in this system of records may routinely be disclosed under the following conditions. The FCC will determine whether disclosure of the records is compatible with the purpose for which the records were collected in each of these cases.

1. FCC Program Management—A record from this system may be accessed and used by the FCC and the ITRS-URD Program Administrator and Program contractor's employees (including employees of subcontractors) to conduct official duties associated with the management and operation of the ITRS-URD Program, as directed by the Commission. The FCC may routinely have access to the information in the ITRS-URD Program's database(s), which includes, but is not limited to audits, oversight, and/or investigations of the ITRS-URD Program's database(s) for the purposes of managing and/or eliminating waste, fraud, and abuse in the ITRS services and ITRS-URD Program. The information may be shared with the FCC's Enforcement Bureau (EB), Consumer and Governmental Affairs Bureau (CGB), Office of Managing Director (OMD), Office of Inspector General (OIG), Telecommunications Relay Services (TRS) Fund Administrator and Program contractor(s) (and subcontractors), and the FCC TRS Fund Program Administrator, as necessary;

2. Third Party Contractors—A record from this system may be disclosed to an employee of a third-party contractor (and subcontractors, as required) to conduct the verification process that allows the ITRS-URD Program's administrator to determine the accuracy of the PII provided by the ITRS-URD Program's registrants to the system of records, i.e., when an employee of a third-party contractor (and/or subcontractor), responsible for management registration and fraud prevention, verifies the eligibility of the participant/registrant/subscriber;

3. State Agencies and Authorized Entities— A record from this system may be disclosed to designated state agencies and other authorized entities, which include, but are not limited to state public utility commissions, and their agents, as is consistent with applicable Federal and State laws, to administer the ITRS-URD Program in that state and to perform other management and oversight duties and responsibilities. When necessary, this may include the transfer of data to and/or from the Third Party Contractor (and subcontractors) to determine or verify the accuracy of the PII provided by the ITRS-URD Program's registrants;

4. FCC Enforcement Actions—When a record in this system involves an informal complaint filed with the FCC alleging a violation of FCC Rules and Regulations by an ITRS-URD Program's applicant/subscriber/registrant, licensee, certified or regulated entity or an unlicensed person or entity, the complaint may be served to the alleged violator for a response through the FCC's normal course of complaint handling process. When an order or other Commission-issued document that includes consideration of an informal complaint or complaints is issued by the FCC for resolution or to enforce FCC Rules and Regulations, the complainant's name may be made public in that order or letter document. Where a complainant in filing his or her complaint explicitly requests that confidentiality of his or her name from public disclosure, the Commission will endeavor to protect such information from public disclosure. Complaints that contain requests for confidentiality may be dismissed if the Commission determines that the request impedes the Commission's ability to investigate and/or resolve the complaint;

5. Congressional Investigations and Inquiries—A record from this system may be disclosed to either House of Congress, or, to the extent of matter within its jurisdiction, any committee or subcommittee thereof, for the purposes of an official Congressional investigation, including but not limited to information concerning ITRS and the ITRS-URD Program's services, ITRS-URD Program's Administrator (and Third Party Contractors and subcontractors) and ITRS-URD Program participants/subscribers/registrants, and/or in response to an inquiry made by an individual to the Congressional office for the individual's own records;

6. Government-wide Program Management and Oversight—When requested by the National Archives and Records Administration (NARA), the Office of Personnel Management (OPM), the General Services Administration (GSA), and/or the Government Accountability Office (GAO) for the purpose of records management studies conducted under authority of 44 U.S.C. 2904 and 2906 (such disclosure(s) shall not be used to make a determination about individuals); when the U.S. Department of Justice (DOJ) is contacted in order to obtain that department's advice regarding disclosure obligations under the Freedom of Information Act; or when the Office of Management and Budget (OMB) is contacted in order to obtain that office's advice regarding obligations under the Privacy Act;

7. ADA Eligibility Verification Data—A record from this system may be disclosed to the appropriate Federal and/or State authorities (including transfers of PII data to/from the ITRS Program's Administrators, contractors, and subcontractors, as required) for the purposes of verifying whether individuals who are deaf, deaf-blind, hard of hearing and/or have speech disabilities are eligible under the ADA to register to participate in/subscribe to the ITRS-URD Program;

8. Law Enforcement and Investigation—Where there is an indication of a violation or potential violation of a statute, regulation, rule, or order, records from this system may be shared with appropriate federal, state, or local authorities either for purposes of obtaining additional information relevant to a FCC decision or for referring the record for investigation, enforcement, or prosecution by another (federal or state) agency to investigate program participation by VRS providers;

9. Adjudication and Litigation—Where by careful review, the Agency determines that the records are both relevant and necessary to litigation and the use of such records is deemed by the Agency to be for a purpose that is compatible with the purpose for which the Agency collected the records, these records may be used by a court or adjudicative body in a proceeding when: (a) The Agency or any component thereof; or (b) any employee of the Agency in his or her official capacity; or (c) any employee of the Agency in his or her individual capacity where the Agency has agreed to represent the employee; or (d) the United States Government is a party to litigation or has an interest in such litigation;

10. Department of Justice—A record from this system of records may be disclosed to the Department of Justice (DOJ) or in a proceeding before a court or adjudicative body when:

(a) The United States, the Commission, a component of the Commission, or, when represented by the government, an employee of the Commission is a party to litigation or anticipated litigation or has an interest in such litigation, and

(b) The Commission determines that the disclosure is relevant or necessary to the litigation; and

11. Breach of Federal Data—A record from this system may be disclosed to appropriate agencies, entities (including the ITRS-URD Program's administrator and its employees), and persons when: (1) The Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm.

DISCLOSURE TO CONSUMER REPORTING AGENCIES:

None.

POLICIES AND PRACTICES FOR STORING, RETRIEVING, ACCESSING, RETAINING, AND DISPOSING OF RECORDS IN THE SYSTEM:

STORAGE:

The information pertaining to the ITRS-URD Program includes electronic records, files, and data and paper documents, records, and files. The ITRS-URD Program administrator will host the electronic data, which will reside in the administrator's ITRS-URD Program's database(s) and in the Third Party Contractor and subcontractors who conduct the subscribers/participants' verification processes. No data will be transmitted, downloaded, or allowed to reside outside of the database(s), except as required by:

1. ITRS providers to populate and update subscriber information and to query to verify the subscriber's status;

2. The FCC to perform oversight, performance, investigations, and/or audit functions, and

3. The ITRS-URD Program administrator or the TRS Fund Administrator to retrieve records and to obtain/transfer data from the Third Party Contractor and subcontractor, when required for the verification process.

Any paper documents will be stored in filing cabinets in the secured areas in the ITRS-URD Program's administrator's office and at the FCC for oversight, performance, investigations, and/or audit purposes.

RETRIEVABILITY:

Information in the ITRS-URD Program may be retrieved by various identifiers, including, but not limited to the individual's name, last four digits of the social security number (SSN), date of birth, phone number, and residential address and other identifiers listed in the CATEGORIES OF RECORDS IN THE SYSTEM.

SAFEGUARDS:

1. Access to the electronic files is restricted to:

a. Authorized and credentialed the ITRS-URD Program's administrator's employees;

b. TRS Fund Administrator (and the TRS Third Party Contractor(s) and subcontractor(s)); and

c. Authorized FCC employees and contractors including, but not limited to the FCC TRS Fund Program Administrator, Enforcement Bureau (EB), Office of Inspector General (OIG), Consumer and Governmental Affairs Bureau (CGB), and Office of Managing Director (OMD), Information Technology (IT), and other bureaus and offices (B/Os), as required, to perform oversight, performance, auditing, and related management functions, duties, and responsibilities.

The FCC requires that parties with authorized access to the ITRS-URD Program's databases, including but not limited to the ITRS Administrator, employees, Third Party contractors and subcontractors, must maintain compliance with the FCC's computer and information security requirements, including those in the Federal Information Security Management Act (FISMA). In addition, an Independent Verification and Validation (IV&V) shall be performed to certify that functional and security requirements were met. IV&V will be conducted by a third-party vendor to ensure reliability, accessibility, validity, compatibility, traceability, security, and ease of use of the application within the environment.

2. The paper documents are maintained in file cabinets that are located in the ITRS-URD Program's administrator's office suites (and the Third Party contractor and subcontractor, as required), and at the FCC for oversight, performance, investigations, and/or audit purposes. The file cabinets are locked when not in use and at the end of the business day.

Access to these files is restricted to:

a. Authorized ITRS-URD Program's administrator's employees (and contractors and subcontractors); and

b. The TRS Fund Administrator and authorized FCC employees and contractors including, but not limited to the FCC TRS Fund Program Administrator, Enforcement Bureau (EB), Office of Inspector General (OIG), Consumer and Governmental Affairs Bureau (CGB), and Office of Managing Director (OMD), Information Technology Center (ITC), and other bureaus and offices (B/Os), as required, to perform oversight, performance, auditing, and related management functions, duties, and responsibilities.

RETENTION AND DISPOSAL:

The National Archives and Records Administration (NARA) has not established a records schedule for the information in the ITRS-URD Program. Consequently, until NARA has approved a records schedule, the ITRS-URD Program's administrator will maintain the information in the ITRS-URD Program's databases in accordance with the requirements of the ITRS Order. The ITRS Order states that:

1. The data in the ITRS-URD Program's database(s) (including the information maintained by the Third Party Contractor and subcontractors who perform the verification processes) are the property of the Federal Government, but will be treated as propriety information of the contractor as the default provider; and

2. A log of all actions (queries and modifications) shall be maintained for a period of no less than five years (or for such other period as directed by the Commission. See Structure and Practices of the Video Relay Service Program; Telecommunications Relay Services and Speech-to-Speech Services for Individuals with Hearing and Speech Disabilities, CG Docket Nos. 03-123 & 10-51, Report and Order and Further Notice of Proposed Rulemaking, 28 FCC Rcd 8618 (2013) (ITRS Order).

Disposal of obsolete or out-of-date paper documents and files is by shredding. Electronic data, files, and records are destroyed by electronic erasure.

SYSTEM MANAGER(S) AND ADDRESS:

TRS Fund Administrator;

TRS Fund Program Coordinator, Office of Managing Director, Federal Communications Commission (FCC), 445 12th Street SW., Washington, DC 20554; and

Consumer and Governmental Affairs Bureau (CGB), Federal Communications Commission (FCC), 445 12th Street SW., Washington, DC 20554.

NOTIFICATION PROCEDURE:

TRS Fund Administrator;

TRS Fund Program Coordinator, Office of Managing Director, Federal Communications Commission (FCC), 445 12th Street SW., Washington, DC 20554;

Consumer and Governmental Affairs Bureau (CGB), Federal Communications Commission (FCC), 445 12th Street SW., Washington, DC 20554; or

Privacy Analyst, Information Technology (IT), Office of Managing Director (OMD), Federal Communications Commission (FCC), 445 12th Street SW., Washington, DC 20554.

RECORD ACCESS PROCEDURES:

TRS Fund Administrator;

TRS Fund Program Coordinator, Office of Managing Director, Federal Communications Commission (FCC), 445 12th Street SW., Washington, DC 20554;

Consumer and Governmental Affairs Bureau (CGB), Federal Communications Commission (FCC), 445 12th Street SW., Washington, DC 20554; or

Privacy Analyst, Information Technology (IT), Office of Managing Director (OMD), Federal Communications Commission (FCC), 445 12th Street SW., Washington, DC 20554.

CONTESTING RECORD PROCEDURES:

TRS Fund Administrator;

TRS Fund Program Coordinator, Office of Managing Director, Federal Communications Commission (FCC), 445 12th Street SW., Washington, DC 20554;

Consumer and Governmental Affairs Bureau (CGB), Federal Communications Commission (FCC), 445 12th Street SW., Washington, DC 20554; or

Privacy Analyst, Information Technology (IT), Office of Managing Director (OMD), Federal Communications Commission (FCC), 445 12th Street SW., Washington, DC 20554.

RECORD SOURCE CATEGORIES:

The sources for the information in the ITRS-URD Program's database(s) include, but are not limited to:

1. The information that the ITRS Program providers must furnish prior to registering ITRS subscribers/participants, and/or to re-certifying ITRS subscribers for participation in the ITRS Program; and

2. The information that individuals who are deaf, deaf-blind, hard of hearing and have speech disabilities and who are eligible under the ADA must provide to determine their eligibility for participation in the ITRS-URD Program.

EXEMPTIONS CLAIMED FOR THE SYSTEM:

None.

Federal Communications Commission.
Marlene H. Dortch,
Secretary.

[FR Doc. 2015-02530 Filed 2-6-15; 8:45 am]

BILLING CODE 6712-01-P